FEDERAL COMMUNICATIONS COMMISSION

47 CFR Part 2

[ET 03-158; MB 03-159; FCC 03-165]

Use of Television Channel 16 by the New York Police Department and NYMAC for Public Safety Services

AGENCY: Federal Communications Commission.

ACTION: Notice of proposed rulemaking.

SUMMARY: This document proposes to amend the rules of the Federal Communications Commission (FCC) to reallocate television channel 16 to the land mobile service in order to permit the New York Police Department and New York Metropolitan Advisory Committee (NYMAC) to utilize the channel for public safety services.

DATES: Submit comments on or before September 22, 2003. Reply comments are due on or before October 6, 2003.

ADDRESSES: Federal Communications Commission, 445 12th St. SW., Washington, DC 20554. See SUPPLEMENTARY INFORMATION for filing instructions.

FOR FURTHER INFORMATION CONTACT: Dave Roberts (202) 418-1600.

SUPPLEMENTARY INFORMATION: This is a summary of the FCC's Notice of Proposed Rulemaking, (NPRM) FCC 03-165, adopted on July 7, 2003, and released on July 10, 2003. The full text of this document is available for inspection and copying during normal business hours in the FCC Reference Center, 445 12th Street, SW., Washington, DC 20554. The complete text may be purchased from the FCC's copy contractor, Qualex International, 445 12th Street, SW., Room CY-B402, Washington, DC 20554. The full text may also be downloaded at: http:// www.fcc.gov. Alternative formats are available to persons with disabilities by contacting Brian Millin at (202) 418-7426 or TTY (202) 418-7365 or at bmillin@fcc.gov.

By this NPRM, the FCC initiates a rulemaking to determine whether to reallocate television channel 16 to the land mobile service for use by the New York Police Department and NYMAC for public safety use in the New York metropolitan area. Comments are sought on the technical impact of this proposal.

This matter shall be treated as a “permit—but-disclose” proceeding in accordance with the Commission's ex parte rules. 47 CFR 1.200, 1.1206. Members of the public are advised that ex parte presentations are permitted, except during the Sunshine Agenda period, provided they are disclosed as provided under the Commission's rules. See generally 47 CFR 1.1203 and 1.1206(a).

Pursuant to 47 CFR 1.415, 1.419, interested parties may file comments on or before September 22, 2003 and reply comments on or before October 6, 2003. Comments may be filed using the Commission's Electronic Comment Filing System (ECFS) or by filing paper copies. See Electronic Filing of Documents in Rulemaking Proceedings, 63 FR 24121 (1998).

Comments filed using ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. When completing the transmittal screen, commenters should include their full name, U.S. Postal Service mailing address, and the applicable docket or rulemaking number. Parties also may submit electronic comments by Internet e-mail. To get filing instructions for e-mail comments, commenters should send an e-mail to ecfs@fcc.gov, and should include the following words in the body of the message, “get form.” A sample form and directions will be sent in reply. Parties who choose to file by paper must file an original and four copies of each filing. If more than one docket or rulemaking number appears in the caption of this proceeding, commenters must submit two additional copies for each additional docket or rulemaking number.

Filings can be sent by hand or messenger delivery, by commercial overnight courier, or by first-class or overnight U.S. Postal Service mail (although we continue to experience delays in receiving U.S. Postal Service mail).

The Commission's contractor, Vistronix, Inc., will receive hand-delivered or messenger-delivered paper filings for the Commission's Secretary at 236 Massachusetts Avenue, NE., Suite 110, Washington, DC 20002.

• The filing hours at this location are 8 a.m. to 7 p.m.

• All hand deliveries must be held together with rubber bands or fasteners.

• Any envelopes must be disposed of before entering the building.

• Commercial overnight mail (other than U.S. Postal Service Express Mail and Priority Mail) must be sent to 9300 East Hampton Drive, Capitol Heights, MD 20743.

• U.S. Postal Service first-class mail, Express Mail, and Priority Mail should be addressed to 445 12th Street, SW., Washington, DC 20554.

All filings must be addressed to the Commission's Secretary, Office of the Secretary, Federal Communications Commission.

The Commission has determined that the relevant provisions of the Regulatory Flexibility Act of 1980 do not apply to rule making proceedings to amend the TV Table of Allotments, § 73.606(b) of the Commission's rules. See Certification That §§ 603 and 604 of the Regulatory Flexibility Act Do Not Apply to Rule Making to Amend §§ 73.202(b), 73.504 and 73.606(b) of the Commission's Rules, 46 FR 11549, February 9, 1981.

Accordingly, it is ordered that pursuant to the authority contained in Sections 1, 4(i), 4(j), 301, 303, 308, 309(j), and 337 of the Communications Act of 1934, as amended, 47 U.S.C. sections 151, 154(j), 157(a), 301, 303, 308, 309(j), and 337 this Notice of Proposed Rulemaking is adopted.

List of Subjects in 47 CFR Part 2

Television.

Federal Communications Commission.
Marlene H. Dortch,
Secretary.

For the reasons discussed in the preamble, the Federal Communications Commission proposes to amend 47 CFR part 2 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.106, the Table of Frequency Allocations, is amended by revising footnote NG66 to read as follows.

§ 2.106 Table of Frequency Allocations.

* * * * *

NON-FEDERAL GOVERNMENT (NG) FOOTNOTES

* * * * *

NG66 The use of the land mobile service in the band 470-512 MHz is available for assignment to licensees in the Public Mobile Services, the Public Safety Radio Pool, and the Industrial/Business Radio Pool at, or in the vicinity of 11 urbanized areas, as set forth in the following table. Additionally, the band 482-488 MHz (TV channel 16) is available for assignment to licensees in the Public Safety Radio Pool at, or in the vicinity of, Los Angeles and at, or in the vicinity of, New York City and Nassau and Suffolk Counties, New York. Such use in the land mobile service is subject to the conditions set forth in 47 CFR parts 22 and 90.

Urbanized area | Frequencies (MHz) | TV channel
New York, NY-Northeastern New Jersey | 470-482 | 14, 15
Chicago, IL-Northwestern Indiana | 470-482 | 14, 15
Boston, MA | 470-476 and 482-488 | 14, 16
Pittsburgh, PA | 470-476 and 494-500 | 14, 18
Los Angeles, CA | 470-476 and 506-512 | 14, 20
Miami, FL | 470-476 | 14
San Francisco-Oakland, CA | 482-494 | 16, 17
Dallas, TX | 482-488 | 16
Washington, D.C.-Maryland-Virginia | 488-500 | 17, 18
Houston, TX | 488-494 | 17
Philadelphia, PA-New Jersey | 500-512 | 19, 20

* * * * *

[FR Doc. 03-21507 Filed 8-21-03; 8:45 am]

BILLING CODE 6712-01-P